DEPARTMENT OF ENERGY

Federal Energy Regulatory Commission

Combined Notice of Filings

Take notice that the Commission has received the following Natural Gas Pipeline Rate and Refund Report filings:

Filings Instituting Proceedings

Docket Numbers: RP15-670-000.

Applicants: Enable Gas Transmission, LLC.

Description: Section 4(d) rate filing per 154.403(d)(2): Fuel Tracker Filing Effective May 2015 to be effective 5/1/2015.

Filed Date: 3/23/15.

Accession Number: 20150323-5143.

Comments Due: 5 p.m. ET 4/6/15.

Docket Numbers: RP15-674-000.

Applicants: Golden Triangle Storage, Inc.

Description: Compliance filing per 154.203: Order No. 801 Compliance Filing to be effective 4/1/2015.

Filed Date: 3/24/15.

Accession Number: 20150324-5064.

Comments Due: 5 p.m. ET 4/6/15.

Docket Numbers: RP15-675-000.

Applicants: Guardian Pipeline, L.L.C.

Description: Section 4(d) rate filing per 154.204: PAL Negotiated Rate Agreement—Koch Energy Services L.L.C. to be effective 3/26/2015.

Filed Date: 3/24/15.

Accession Number: 20150324-5181.

Comments Due: 5 p.m. ET 4/6/15.

Docket Numbers: RP15-676-000.

Applicants: Enable Mississippi River Transmission, L.

Description: Section 4(d) rate filing per 154.204: Negotiated Rate Filing to Add Ameren 3668 Effective 4-1-15 to be effective 4/1/2015.

Filed Date: 3/24/15.

Accession Number: 20150324-5191.

Comments Due: 5 p.m. ET 4/6/15.

Docket Numbers: RP15-677-000.

Applicants: North Baja Pipeline, LLC.

Description: Compliance filing per 154.203: Compliance to Order 801—Docket No. RM14-21-000 to be effective 6/1/2015.

Filed Date: 3/25/15.

Accession Number: 20150325-5015.

Comments Due: 5 p.m. ET 4/6/15.

Docket Numbers: RP15-678-000.

Applicants: Northern Border Pipeline Company.

Description: Compliance filing per 154.203: Compliance to Order 801—Docket No. RM14-21-000 to be effective 6/1/2015.

Filed Date: 3/25/15.

Accession Number: 20150325-5016.

Comments Due: 5 p.m. ET 4/6/15.

Docket Numbers: RP15-679-000.

Applicants: ANR Pipeline Company.

Description: Compliance filing per 154.203: Compliance to Order 801—Docket No. RM14-21-000 to be effective 6/1/2015.

Filed Date: 3/25/15.

Accession Number: 20150325-5043.

Comments Due: 5 p.m. ET 4/6/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-523-002.

Applicants: Sabine Pipe Line LLC.

Description: Tariff Amendment per 154.205(b): Sabine LUAF and Fuel Amendment 2 to be effective 4/1/2015.

Filed Date: 3/24/15.

Accession Number: 20150324-5053.

Comments Due: 5 p.m. ET 3/30/15.

Docket Numbers: RP15-670-001.

Applicants: Enable Gas Transmission, LLC.

Description: Tariff Amendment per 154.205(b): Amendment to Fuel Tracker Filing Effective May 2015 to be effective 5/1/2015.

Filed Date: 3/24/15.

Accession Number: 20150324-5078.

Comments Due: 5 p.m. ET 4/6/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2015.
Nathaniel J. Davis, Sr.,
Deputy Secretary.

[FR Doc. 2015-07532 Filed 4-1-15; 8:45 am]

BILLING CODE 6717-01-P